DEPARTMENT OF HOMELAND SECURITY

Federal Emergency Management Agency

[Docket ID: FEMA-2024-0028; OMB No. 1660-0105]

Agency Information Collection Activities: Proposed Collection, Comment Request; National Household Survey on Disaster Preparedness

AGENCY: Federal Emergency Management Agency, Department of Homeland Security.

ACTION: 60-Day notice of extension and request for comments.

SUMMARY: The Federal Emergency Management Agency (FEMA), as part of its continuing effort to reduce paperwork and respondent burden, invites the general public to take this opportunity to comment on an extension of a currently approved information collection. In accordance with the requirements of the Paperwork Reduction Act of 1995, this notice seeks comments concerning the National Household Survey on Disaster Preparedness, which identifies progress and gaps in individual and community preparedness and to better understand the motivational factors and barriers to preparedness that people face.

DATES: Comments must be submitted on or before December 3, 2024.

ADDRESSES: To avoid duplicate submissions to the docket, please submit comments at http://www.regulations.gov under Docket ID FEMA-2024-0028. Follow the instructions for submitting comments.

All submissions received must include the Agency name and Docket ID. Regardless of the method used to submitting comments or material, all submissions will be posted, without change, to the Federal eRulemaking Portal at http://www.regulations.gov, and will include any personal information you provide. Therefore, submitting this information makes it public. You may wish to read the Privacy and Security Notice that is available via a link on the homepage of http://www.regulations.gov.

FOR FURTHER INFORMATION CONTACT: Andrew Burrows, Preparedness Behavior Branch Chief, Individual and Community Preparedness Division, Partnership and Engagement Branch at (202) 716-0527 or andrew.burrows@fema.dhs.gov. You may contact the Information Management Division for copies of the proposed collection of information at email address: FEMA-Information-Collections-Management@fema.dhs.gov.

SUPPLEMENTARY INFORMATION: The Robert T. Stafford Disaster Relief and Emergency Assistance Act (Stafford Act) (Pub. L. 93-288, as amended) (42 U.S.C. 5195-5195(a)) identifies the purpose of emergency preparedness “for the protection of life and property in the United States from hazards.” It directs that the Federal Government “provide necessary direction, coordination, and guidance” as authorized for a comprehensive emergency preparedness system for all hazards. Emergency preparedness is defined as all “activities and measures designed or undertaken to prepare or minimize the effects of a hazard upon the civilian population . . .” The “conduct of research” is among the measures to be undertaken in preparation for hazards.

The Department of Homeland Security (DHS) Strategic Plan 2020-2024 includes Goal 5 to “strengthen preparedness and resiliency.” The first objective (5.1) of this goal is to “build a national culture of preparedness” with a sub-objective to “improve awareness initiatives to encourage public action to increase preparedness.” Similarly, in FEMA's 2022-2026 Strategic Plan, Goal 3 is to “promote and sustain a ready FEMA and prepared nation.”

Presidential Policy Directive-8 (PPD-8) directs the Secretary of Homeland Security to “coordinate a comprehensive campaign to build and sustain national preparedness, including public outreach and community-based and private sector programs to enhance national resilience, the provision of Federal financial assistance, preparedness efforts by the Federal Government, and national research and development efforts.”

The Post Katrina Emergency Management Reform Act (PKEMRA) (Pub. L. 109-295) (6 U.S.C. 749(a)) requires the FEMA Administrator, in coordination with the National Council on Disability and the National Advisory Council, to establish a comprehensive system to assess, on an ongoing basis, the Nation's prevention capabilities and overall preparedness, including operational readiness.

In response to the charge to FEMA, and to the DHS and FEMA strategic priorities, FEMA manages programs to improve the public's knowledge and actions for preparedness and resilience. Information from this collection will be used to track changes in knowledge, attitudes, and behaviors related to preparedness in the general public. This information collection will be in the form of a public opinion survey administered to a sample of American adults across the nation. The nature of the information collected will focus on people's attitudes, behaviors, and motivations related to disaster preparedness and disaster risk.

Collection of Information

Title: National Household Survey on Disaster Preparedness.

Type of Information Collection: Extension of a currently approved information collection.

OMB Number: 1660-0105.

FEMA Forms: FEMA Form FF-008-FY-21-103 (formerly 008-0-15), National Household Survey on Disaster Preparedness (Telephone); FEMA Form FF-008-FY-21-104, National Household Survey on Disaster Preparedness (Web).

Abstract: The Individual and Community Preparedness Division (ICPD) analyzes and uses data collected in the two versions of the National Household Survey on Disaster Preparedness to identify progress and gaps in individual and community preparedness and to better understand the motivational factors and barriers to preparedness that people face. The survey measures the public's knowledge, attitudes, and behaviors relative to preparing for disasters. This information is used by ICPD and FEMA components to tailor messaging and public information efforts, community outreach, and strategic planning initiatives to more effectively improve the state of individual preparedness and participation across the country. The findings are compiled in a report that is circulated internally to DHS and FEMA officials as well as made available to the public on the FEMA website, OpenFEMA (https://www.fema.gov/about/openfema/data-sets/national-household-survey).

Affected Public: Individuals or Households.

Estimated Number of Respondents: 3,751.

Estimated Number of Responses: 3,751.

Estimated Total Annual Burden Hours: 1,282.

Estimated Total Annual Respondent Cost: $58,524.

Estimated Respondents' Operation and Maintenance Costs: $0.

Estimated Respondents' Capital and Start-Up Costs: $0.

Estimated Total Annual Cost to the Federal Government: $323,932.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-22897 Filed 10-3-24; 8:45 am]

BILLING CODE 9111-27-P